DEPARTMENT OF THE TREASURY

Submission for OMB Review; Comment Request

October 20, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 28, 2005, to be assured of consideration.

Internal Revenue Service (IRS)

OMB Number: 1545-1417.

Type of Review: Extension.

Title: Indian Employment Credit.

Form: IRS form 8845.

Description: Employers can claim a credit for hiring American Indians or their spouses to work within an Indian reservation. The credit is figured by multiplying by 20% the increase in wages and health insurance costs over the comparable amount paid or incurred during calendar year 1993.

Respondents: Business or other for-profit.

Estimated Total Burden Hours: 11,314 hours.

OMB Number: 1545-1913.

Type of Review: Extension.

Title: Payment of Gift/GST Tax and/or Application for Extension of Time to File Form 709.

Form: IRS form 8892.

Description: Form 8892 was created to serve a dual purpose. First, the form enables taxpayers to request an extension of time to file 709, when they are not filing an individual income tax extension. Second, it serves as a payment voucher for taxpayers, who are filing an individual income tax extension (by Form 4868) and will have a gift tax balance due on form 709.

Respondents: Individuals and households.

Estimated Total Burden Hours: 7,400 hours.

OMB Number: 1545-1942.

Type of Review: Extension.

Title: Notice 2005-44 Charitable Contributions of Certain Motor Vehicles, Boats and Airplanes.

Description: The notice provides guidance under new section 170(f)(12) and 6720 regarding how to determine the amount of a charitable contribution for certain vehicles and the related substantiation and information reporting requirements.

Respondents: Individuals or households and Not-for-profit institutions.

Estimated Total Burden Hours: 3,041 hours.

OMB Number: 1545-1950.

Type of Review: Extension.

Title: Return by a Shareholder Making Certain Late Elections To End Treatment as a Passive Foreign Investment Company.

Form: IRS form 8621-A2.

Description: Form 8621-A is used by certain taxpayer/investors to request ending of their treatment as investing in a Passive Foreign Investment Company. News regulations are being written in support of new products. The underlying law is in IRC sections 1297 and 1298.

Respondents: Individuals or households and Business or other for-profit.

Estimated Total Burden Hours: 65,400 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. 05-21417 Filed 10-26-05; 8:45 am]

BILLING CODE 4830-01-P